SURFACE TRANSPORTATION BOARD

[Docket No. FD 36188]

Wilmington Terminal Railroad, Limited Partnership—Temporary Trackage Rights Exemption—CSX Transportation, Inc.

Pursuant to a written trackage rights agreement (Agreement) dated May 2, 2018,¹ CSX Transportation, Inc. (CSXT), has agreed to grant temporary overhead trackage rights to Wilmington Terminal Railroad, Limited Partnership (WTRY), over CSXT's line between the Port of Wilmington in Wilmington, NC, at CSXT milepost ACB 249.74 and the switch at CSXT milepost ACB 243.96, and between the switch at CSXT milepost ACB 243.96 and the switch at CSXT's Davis Yard in Navassa, NC, at CSXT milepost SE 359.79, a distance of approximately 10.0 miles.

¹ A redacted version of the fully executed Agreement was filed with the notice. A confidential, unredacted version of the Agreement also was submitted under seal to be kept confidential by the Board under 49 CFR 1104.14(a).

WTRY states that it intends to commence operations under the trackage rights agreement on or after the effective date of this notice. The transaction may be consummated on or after June 3, 2018, the effective date of the exemption (30 days after the verified notice of exemption was filed). The purpose of the trackage rights is to allow WTRY to bridge loaded and empty trains containing containers or trailers in intermodal service in connection with CSXT's “Queen City Express” service. Pursuant to the trackage rights agreement, the temporary trackage rights will expire twelve months after the effective date of the exemption, unless terminated earlier.

As a condition to this exemption, any employees affected by the acquisition of the temporary trackage rights will be protected by the conditions imposed in Norfolk & Western Railway—Trackage Rights—Burlington Northern, Inc., 354 I.C.C. 605 (1978), as modified in Mendocino Coast Railway—Lease & Operate—California Western Railroad, 360 I.C.C. 653 (1980), and any employees affected by the discontinuance of those trackage rights will be protected by the conditions set out in Oregon Short Line Railroad—Abandonment Portion Goshen Branch Between Firth & Ammon, in Bingham & Bonneville Counties, Idaho, 360 I.C.C. 91 (1979).

This notice is filed under 49 CFR 1180.2(d)(8). If the verified notice contains false or misleading information, the exemption is void ab initio. Petitions to revoke the exemption under 49 U.S.C. 10502(d) may be filed at any time. The filing of a petition to revoke will not automatically stay the effectiveness of the exemption. Petitions for stay must be filed no later than May 25, 2018 (at least seven days before the exemption becomes effective).

An original and 10 copies of all pleadings, referring to Docket No. FD 36188, must be filed with the Surface Transportation Board, 395 E Street SW, Washington, DC 20423-0001. In addition, a copy of each pleading must be served on Eric M. Hocky, Clark Hill, PLC, One Commerce Square, 2005 Market Street, Suite 1000, Philadelphia, PA 19103.

Board decisions and notices are available on our website at WWW.STB.GOV.

Decided: May 14, 2018.
By the Board, Scott M. Zimmerman, Acting Director, Office of Proceedings.
Brendetta Jones,
Clearance Clerk.

[FR Doc. 2018-10591 Filed 5-17-18; 8:45 am]

BILLING CODE 4915-01-P